DEPARTMENT OF HOMELAND SECURITY

Coast Guard

33 CFR Part 117

[CGD01-04-137]

Drawbridge Operation Regulations: Connecticut River, CT

AGENCY: Coast Guard, DHS.

ACTION: Notice of temporary deviation from regulations.

SUMMARY: The Commander, First Coast Guard District, has issued a temporary deviation from the drawbridge operation regulations for the Amtrak Old Saybrook-Old Lyme Bridge, mile 3.4, across the Connecticut River, Connecticut. This deviation from the regulations allows the bridge to remain closed from 10 p.m. on November 15, 2004 through 10 a.m. on November 16, 2004. This deviation is necessary in order to facilitate necessary electrical repairs at the bridge.

DATES: This deviation is effective from November 15, 2004 through November 16, 2004.

FOR FURTHER INFORMATION CONTACT: Judy Leung-Yee, Project Officer, First Coast Guard District, at (212) 668-7195.

SUPPLEMENTARY INFORMATION: The Old Saybrook-Old Lyme Bridge, at mile 3.4 across the Connecticut River has a vertical clearance in the closed position of 19 feet at mean high water and 22 feet at mean low water. The existing drawbridge operating regulations are listed at 33 CFR 117.205(b).

The owner of the bridge, Amtrak, requested a temporary deviation from the drawbridge operating regulations to facilitate electrical repairs at the bridge.

This deviation to the operating regulations allows the Old Saybrook-Old Lyme Bridge to remain closed from 10 p.m. on November 15, 2004 through 10 a.m. on November 16, 2004.

In accordance with 33 CFR 117.35(c), this work will be performed with all due speed in order to return the bridge to normal operation as soon as possible. This deviation from the operating regulations is authorized under 33 CFR 117.35.

Dated: October 20, 2004.
John L. Grenier,
Captain, U.S. Coast Guard, Acting Commander, First Coast Guard District.

[FR Doc. 04-24689 Filed 11-4-04; 8:45 am]

BILLING CODE 4910-15-P